DEPARTMENT OF LABOR

Occupational Safety and Health Administration

[Docket No. OSHA-2013-0006]

Advisory Committee on Construction Safety and Health (ACCSH)

AGENCY: Occupational Safety and Health Administration (OSHA), Labor.

ACTION: Announcement of special meeting of the ACCSH.

SUMMARY: The ACCSH will hold a special meeting March 18, 2013, in Washington, DC, to consider a proposed rule to update OSHA's standard on Accident Prevention Signs and Tags in construction and proposed technical amendments and corrections to the Cranes and Derricks standards.

DATES:

ACCSH meeting: The ACCSH will meet from 1 to 4:00 p.m., Monday, March 18, 2013.

Written comments, requests to speak, speaker presentations, and requests for special accommodations: You must submit (postmark, send, transmit) comments, requests to address the ACCSH meeting, speaker presentations (written or electronic), and requests for special accommodations for the ACCSH meeting by March 8, 2013.

ADDRESSES: Special ACCSH meeting: The ACCSH will meet in Room N-3437 A-C, U.S. Department of Labor, 200 Constitution Avenue NW., Washington, DC 20210.

Submission of comments, requests to speak, and speaker presentations: You may submit comments, requests to speak at the ACCSH meeting, and speaker presentations, which you must identify by agency name and docket number for this Federal Register notice (Docket No. OSHA-2013-0006), using one of the following methods:

Electronically: You may submit materials, including attachments, electronically at http://www.regulations.gov, which is the Federal eRulemaking Portal. Follow the on-line instructions for submissions.

Facsimile (Fax): If your submission, including attachments, does not exceed 10 pages, you may fax it to the OSHA Docket Office at (202) 693-1648.

Mail, hand delivery, express mail, messenger, or courier service: You may submit your materials to the OSHA Docket Office, Docket No. OSHA-2013-0006, Room N-2625, U.S. Department of Labor, 200 Constitution Avenue NW., Washington, DC 20210; telephone: (202) 693-2350 (TTY (877) 889-5627). The Department of Labor and OSHA's Docket Office accepts deliveries (hand deliveries, express mail, and messenger (courier) service) during normal business hours, 8:15 a.m.-4:45 p.m., e.t., weekdays.

Requests for special accommodations: Please submit your request for special accommodations to attend the ACCSH meeting to Ms. Veneta Chatmon, OSHA, Office of Communications, Room N-3647, U.S. Department of Labor, 200 Constitution Avenue NW., Washington, DC 20210; telephone: (202) 693-1999; email: chatmon.veneta@dol.gov.

Instructions: Your submission must include the agency name and docket number for this Federal Register notice (Docket No. OSHA-2013-0006). Due to security-related procedures, submissions by regular mail may experience significant delays. Please contact the OSHA Docket Office for information about security procedures for making submissions. For additional information on submitting comments, requests to speak, and speaker presentations, see the SUPPLEMENTARY INFORMATION section of this notice.

OSHA will post comments, requests to speak, and speaker presentations, including any personal information you provide, without change, at http://www.regulations.gov. Therefore, OSHA cautions you about submitting personal information such as Social Security numbers and birthdates.

FOR FURTHER INFORMATION CONTACT: For press inquiries: Mr. Frank Meilinger, Director, OSHA Office of Communications, Room N-3647, U.S. Department of Labor, 200 Constitution Avenue NW., Washington, DC 20210; telephone: (202) 693-1999; email: meilinger.francis2@dol.gov.

For general information about the special ACCSH meeting: Mr. Damon Bonneau, OSHA, Directorate of Construction, Room N-3468, U.S. Department of Labor, 200 Constitution Avenue NW., Washington, DC 20210; telephone: (202) 693-2020; email: bonneau.damon@dol.gov.

SUPPLEMENTARY INFORMATION:

ACCSH Special Meeting

The ACCSH will hold a special meeting March 18, 2013, in Washington, DC. Some ACCSH members will attend the meeting by teleconference. The meeting is open to the public.

The ACCSH advises the Secretary of Labor and Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.). See also 29 CFR 1911.10 and 1912.3. The OSH Act and CSA also require that OSHA consult with ACCSH before the Agency proposes an occupational safety and health standard affecting construction activities.

The purpose of this special meeting is to present the following actions to the ACCSH for their consideration:

• Proposed rule to update OSHA's standard on Accident Prevention Signs and Tags in construction (29 CFR 1926.200). The proposed rule updates the American National Standards Institute consensus standards referenced in § 1926.200; and

• Proposed technical amendments and corrections OSHA's Cranes and Derricks standards (29 CFR part 1926, subpart CC).

Public Participation, Submissions, and Access to Public Docket

ACCSH special meeting: The special ACCSH meeting is open to the public. Individuals attending the special ACCSH meeting must enter the Department of Labor at the visitors' entrance, 3rd and C Streets NW., and pass through building security. Attendees must have valid government-issued photo identification to enter the building. For additional information about building security measures for attending the special meeting, please contact Ms. Chatmon (see ADDRESSES section). Please submit your request for special accommodations to attend the special meeting of the ACCSH to Ms. Chatmon.

Submission of comments: You may submit comments using one of the methods listed in the ADDRESSES section. Your submissions must include the agency name and docket number for this ACCSH meeting (Docket No. OSHA-2013-0006). OSHA will provide copies of submissions to ACCSH members.

Because of security-related procedures, submissions by regular mail may experience significant delays. For information about security procedures for submitting materials by hand delivery, express mail, and messenger (courier) service, contact the OSHA Docket Office (see ADDRESSES section).

Requests to speak: If you want to address the ACCSH at the meeting you must submit your request to speak, by March 8, 2013, using one of the methods listed in the ADDRESSES section. Your request must state:

• The amount of time requested to speak;

• The interest you represent (e.g., business, organization, affiliation), if any; and

• A brief outline of the presentation.

PowerPoint presentations and other electronic materials must be compatible with PowerPoint 2003 and other Microsoft Office 2003 formats.

The ACCSH Chair may grant requests to address the ACCSH as time and circumstances permit.

Public docket of the ACCSH meeting: OSHA transcribes the ACCSH meetings and prepares detailed minutes of meetings. OSHA places the transcript, minutes, and other materials submitted to the ACCSH in the public docket for the meeting. This includes putting comments, requests to speak, and speaker presentations, including any personal information you provide, in the public docket of this ACCSH meeting without change. Those documents may be available online at http://www.regulations.gov; therefore, OSHA cautions you about submitting personal information such as Social Security numbers and birthdates.

Access to the public record of ACCSH meetings: To read or download documents in the public docket of this ACCSH meeting, go to Docket No. OSHA-2013-0006 at http://www.regulations.gov. All documents in the public record for this meeting are listed in the http://www.regulations.gov index; however, some documents (e.g., copyrighted materials) are not publicly available through that Web page. All documents in the public record, including materials not available through http://www.regulations.gov, are available for inspection and copying in the OSHA Docket Office (see ADDRESSES section). Please contact the OSHA Docket Office for assistance in making submissions to, or obtaining materials from, the public docket.

Electronic copies of this Federal Register notice are available at http://www.regulations.gov. This notice, as well as news releases and other relevant information, also are available on the OSHA Web page at http://www.osha.gov.

Authority and Signature

David Michaels, Ph.D., MPH, Assistant Secretary of Labor for Occupational Safety and Health, authorized the preparation of this notice under the authority granted by 29 U.S.C. 656, 40 U.S.C. 3704, 5 U.S.C. App. 2, 29 CFR parts 1911 and 1912, 41 CFR part 102, and Secretary of Labor's Order No. 1-2012 (77 FR 3912).

Signed at Washington, DC, on February 21, 2013.
David Michaels,
Assistant Secretary of Labor for Occupational Safety and Health.

[FR Doc. 2013-04482 Filed 2-27-13; 8:45 am]

BILLING CODE 4510-26-P